ENVIRONMENTAL PROTECTION AGENCY

[FRL-8170-6]

Meeting of the Ozone Transport Commission

AGENCY: Environmental Protection Agency (EPA).

ACTION: Notice of meeting.

SUMMARY: The United States Environmental Protection Agency is announcing the 2006 Annual Meeting of the Ozone Transport Commission (OTC). This OTC meeting will explore options available for reducing ground-level ozone precursors in a multi-pollutant context.

DATES: The meeting will be held June 6-7, 2006 starting at 1 p.m. on June 6, 2006 and ending June 7, 2006 at 4 p.m.

ADDRESSES: Radisson Hotel Boston, 200 Stuart Street, Boston, MA 02116; (617) 482-1800.

FOR FURTHER INFORMATION CONTACT: Questions regarding the agenda and registration for this meeting and all press inquiries should be directed to: Kromeklia Bryant, Ozone Transport Commission/MANE-VU Office, 444 North Capitol Street NW., Suite 638, Washington, DC 20001; (202) 508-3840; e-mail: ozone@otcair.org; Web site: http://www.otcair.org.

SUPPLEMENTARY INFORMATION: The Clean Air Act Amendments of 1990 contain at Section 184 provisions for the “Control of Interstate Ozone Air Pollution.” Section 184(a) establishes an “Ozone Transport Region” (OTR) comprised of the States of Connecticut, Delaware, Maine, Maryland, Massachusetts, New Hampshire, New Jersey, New York, Pennsylvania, Rhode Island, Vermont, parts of Virginia and the District of Columbia. The purpose of the OTC is to deal with ground-level ozone formation, transport, and control within the OTR. The purpose of this notice is to announce that the OTC will meet on June 6-7, 2006 at the address noted earlier in this notice. This meeting will explore options available for reducing ground-level ozone precursors in a multi-pollutant context. Section 176A(b)(2) of the Clean Air Act Amendments of 1990 specifies that the meeting of the OTC is not subject to the provisions of the Federal Advisory Committee Act. This meeting will be open to the public as space permits.

Type of Meeting: Open.

Agenda: Copies of the final agenda will be available from the OTC office (202) 508-3840; by e-mail: ozone@otcair.org or via the OTC Web site at http://www.otcair.org.

Dated: April 28, 2006.
Judith Katz,
Acting Regional Administrator, Region III.

[FR Doc. E6-7408 Filed 5-15-06; 8:45 am]

BILLING CODE 6560-50-P